DEPARTMENT OF ENERGY

Extension of a Currently Approved Information Collection for the Weatherization Assistance Program

AGENCY: Office of Energy Efficiency and Renewable Energy, U.S. Department of Energy.

ACTION: Notice and request for comments.

SUMMARY: The Department of Energy (DOE), pursuant to the Paperwork Reduction Act of 1995, intends to extend for three years a currently approved collection of information with the Office of Management and Budget (OMB). The information collection request, Weatherization Assistance Program (WAP), was previously approved on May 31, 2020, under OMB Control No. 1910-5127 and its current expiration date is May 31, 2023. This ICR will include WAP Annual Appropriations and Weatherization Readiness Funds, Infrastructure Investment and Jobs Act (IIJA), and Multi-Family Buildings. This ICR makes updates to the WAP reporting metrics to ensure the requested information can be shared on an annual basis with Congress.

DATES: Comments regarding this propose information collection must be received on or before November 25, 2022. If you anticipate that you will be submitting comments but find it difficult to do so within the period allowed by this notice, please advise the OMB Desk Officer of your intention to make a submission as soon as possible. The Desk Officer may be telephoned at (202) 881-8585.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection instrument and instructions should be directed to Brittany Price, EE-5W, U.S. Department of Energy, 1000 Independence Ave. SW, Washington, DC 20585-0121 or by email or phone at brittany.price@ee.doe.gov, (240) 306-7252.

SUPPLEMENTARY INFORMATION: Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains: (1) OMB No.: 1910-5127; (2) Information Collection Request Title: “Weatherization Assistance Program (WAP)”; (3) Type of Review: Extension of a Currently Approved Collection; (4) Purpose: To collect information on the status of grantee activities related to WAP Annual Appropriations/Weatherization Readiness Fund, IIJA, and the multifamily buildings expansion—including but not limited to weatherized units, total people assisted with grant funds; expenditures; and results, to ensure that program funds are being used appropriately, effectively and expeditiously. WAP Annual Appropriations and Weatherization Readiness Fund: On March 15, 2022, the President signed the Consolidated Appropriations Act of 2021, which appropriated $334,000,000 to the WAP, and included $15,000,000 to be made available to establish a Weatherization Readiness Fund. As noted in WPN 22-6, WAP Grantees will be required to report metrics related to the expenditure of these funds. Infrastructure Investments and Jobs Act (IIJA): In addition to the reporting documents for the WAP's annual appropriations, this collection also includes reporting for the $3.168 billion delivered by IIJA. IIJA was passed by Congress on November 6, 2021 “to authorize funds for Federal-aid highways, highway safety programs, and transit programs, and for other purposes.” The Weatherization Assistance Program is listed as an IIJA recipient under the Subtitle E—Miscellaneous section within Title V: Energy Efficiency and Building Infrastructure. Multifamily Buildings: The Consolidated Appropriations Act, 2021 amended Section 421 of the Energy Conservation and Production Act by inserting: “the number of multifamily buildings in which individual dwelling units were weatherized during the previous year, the number of individual dwelling units in multifamily buildings weatherized during the previous year,” after “the average size of the dwellings being weatherized.” (5) Annual Estimated Number of Respondents: 57; (6) Annual Estimated Number of Total Responses: 798; (8) Annual Estimated Number of Burden Hours: 7,752; (8) Annual Estimated Reporting and Recordkeeping Cost Burden: $366,824.64.

Statutory Authority: Title 42, Chapter 81, Subchapter III, Part A of the United States Code (U.S.C.), (42 U.S.C. 6867(a)).

Signing Authority

This document of the Department of Energy was signed on October 14, 2022, by Francisco Alejandro Moreno, Acting Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on October 20, 2022.
Treena V. Garrett,
Federal Register Liaison Officer, U.S. Department of Energy.

[FR Doc. 2022-23240 Filed 10-25-22; 8:45 am]

BILLING CODE 6450-01-P